ENVIRONMENTAL PROTECTION AGENCY

[EPA-HQ-OAR-2010-0505; FRL-9174-8]

Oil and Natural Gas Sector—Notice of Public Meeting

AGENCY: Environmental Protection Agency (EPA).

ACTION: Notice of public meeting.

SUMMARY: EPA will be conducting public meetings to provide an opportunity for public involvement during EPA's review of air regulations affecting the oil and natural gas industry. The review in progress covers oil and natural gas exploration and production, as well as natural gas processing, transmission, storage, and distribution. The primary purpose of these meetings is to establish a dialog among government, the affected industry, and other interested members of the public early in the rule development process, as well as to receive information that may be useful to EPA in its review. At these meetings, EPA will explain the regulatory process, provide a brief overview of its regulatory review, solicit information that may be useful to EPA in the review of these rules, and provide an opportunity for participants to ask questions and submit comments. These meetings will be open to the public.

DATES: Meetings: There will be daytime and evening meetings to provide greater public access. The first pair of meetings will be held on August 2, 2010, from 12 p.m. to 4 p.m., and 6 p.m. to 10 p.m., in the Council Chamber of the Arlington Municipal Building, Arlington, Texas. The second pair of meetings will be held on August 3, 2010, from 12 p.m. to 4 p.m., and 6 p.m. to 10 p.m., in the ballroom of the Holiday Inn Denver East-Stapleton, Denver, Colorado. Meetings may end earlier than the scheduled times based on participation.

Participation: Although not required for attendance, we ask that anyone who plans to attend one or more of the meetings provide name, affiliation, and sessions attending to the meeting information contact listed under FOR FURTHER INFORMATION CONTACT at least 10 days prior to the meeting. However, anyone who wishes to present comments at any of the meetings must notify the meeting information contact at least 10 days prior to the meeting to facilitate EPA in developing the agenda. We request that an electronic or hard copy of any prepared comments be provided to EPA at the time of the meeting.

Special Accommodations: To request accommodation of a disability, please contact the meeting information contact listed under FOR FURTHER INFORMATION CONTACT, preferably at least 10 days prior to the meeting, to give EPA as much time as possible to process your request.

ADDRESSES: The August 2, 2010, meetings will be held at the Arlington Municipal Building, 101 W. Abram St., Arlington, Texas 76010. The August 3, 2010, meetings will be held at the Holiday Inn Denver East-Stapleton, 3333 Quebec St., Denver, Colorado 80207.

FOR FURTHER INFORMATION CONTACT: For information on the EPA Oil and Natural Gas Sector Program, contact: Mr. Bruce Moore, Sector Policies and Programs Division (E143-01), Office of Air Quality Planning and Standards, Environmental Protection Agency, 109 T.W. Alexander Dr., Research Triangle Park, North Carolina 27711; telephone number: (919) 541-5460; fax number: (919) 541-0246; e-mail address: moore.bruce@epa.gov. For meeting information, contact: Mr. Nick Parsons, Sector Policies and Programs Division (E143-01), Office of Air Quality Planning and Standards, Environmental Protection Agency, 109 T.W. Alexander Dr., Research Triangle Park, North Carolina 27711; telephone number: (919) 541-5372; fax number: (919) 541-0246; e-mail address: parsons.nick@epa.gov.

SUPPLEMENTARY INFORMATION:

I. General Information

Does this action apply to me?

EPA is in the process of reviewing air regulations affecting the oil and natural gas industry. This review may potentially affect any segment of the oil and natural gas industry, which includes, but is not limited to: Offshore drilling; onshore drilling; oil and natural gas production; natural gas processing; natural gas transmission; and natural gas distribution. You may be affected in some way by regulatory action following this review if you own, operate, work, or live near oil and natural gas operations in the segments listed above.

Docket. EPA has established a docket for the above mentioned review process under Docket ID Number EPA-HQ-OAR-2010-0505. Publicly available docket materials are available either electronically through www.regulations.gov or in hard copy at the EPA Docket Center, Public Reading Room, EPA West Building, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

II. Background

Under sections 111(b)(1)(B), 112(d)(6), and 112(f)(2) of the Clean Air Act (CAA), EPA has a mandatory duty to take actions relative to the review/revision of new source performance standards (NSPS) and national emission standards for hazardous air pollutants (NESHAP) within 8 years of the issuance of the standards. On January 14, 2009, WildEarth Guardians and San Juan Citizens Alliance brought suit against EPA in the District Court for the District of Columbia, alleging that EPA failed to meet its obligations under sections 111(b)(1)(B), 112(d)(6), and 112(f)(2) of the CAA with respect to the Oil and Natural Gas Production source category. On February 4, 2010, the Court entered a consent decree that resolves the claims in this lawsuit. The consent decree requires, among other things, that EPA sign by January 31, 2011, proposed standards and/or determinations not to issue standards pursuant to sections 111(b)(1)(B), 112(d)(6), and 112(f)(2) of the CAA, and that EPA finalize its proposals by November 30, 2011. The consent decree authorizes EPA to sign by January 31, 2011, a final determination not to review the NSPS pursuant to section 111(b)(1)(B) of the CAA without issuing a proposal for such determination.

EPA is in the process of taking actions under CAA sections 111 and 112 relative to the review/revision of the following NSPS and NESHAP: The NSPS for Equipment Leaks of VOC from Onshore Natural Gas Processing Plants (40 CFR part 60, subpart KKK); the NSPS for Onshore Natural Gas Processing: SO2 Emissions (40 CFR part 60, subpart LLL); the NESHAP From Oil and Natural Gas Production Facilities (40 CFR part 63, subpart HH); and the NESHAP From Natural Gas Transmission and Storage Facilities (40 CFR part 63, subpart HHH). As part of this process, EPA is holding public meetings in the Dallas, Texas, and Denver, Colorado, areas, both of which are in regions significantly affected by oil and natural gas production operations. The purpose of these meetings is to establish a dialog among government, the affected industry, and other interested members of the public, as well as to receive information that may be useful to EPA in its review of the NSPS and NESHAP identified above. Such information could include information regarding the nature of local oil and gas production operations, air emissions from oil and gas production operations, control technologies and/or practices that may minimize or otherwise address air emissions, and information on the public health, welfare, and other environmental impacts of air emissions from oil and gas production operations. At these meetings, EPA plans to provide a brief overview of the Agency's review process for the NSPS and NESHAP identified above, including background information on these regulations. There will also be opportunities for questions and answers. In addition, any interested party from industry or the general public may present oral or written information to EPA at these meetings.

Dated: July 7, 2010.
Mary E. Henigin,
Acting Director, Office of Air Quality Planning and Standards.

[FR Doc. 2010-17042 Filed 7-12-10; 8:45 am]

BILLING CODE 6560-50-P